COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add services to the Procurement List that will be furnished by nonprofit agencies employing persons who are blind or have other severe disabilities.

DATES: Comments must be received on or before: September 22, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Janitorial Service

Mandatory for: US Coast Guard, USCG Training Center, Petaluma, CA

Mandatory for: US Coast Guard, USCG Pacific Strike Team, Novato, CA

Mandatory Source of Supply: North Bay Rehabilitation Services, Inc., Rohnert Park, CA

Contracting Activity: U.S. COAST GUARD, SILC BSS(00084)

Service Type: Transportation Maintenance and Operations Services

Mandatory for: US Navy, MCIEast, MCB Camp Lejeune (including MCAS New River), Camp Lejeune, NC

Mandatory Source of Supply: Skookum Educational Programs, Bremerton, WA

Contracting Activity: DEPT OF THE NAVY, COMMANDING GENERAL

Patricia Briscoe,
Deputy Director, Business Operations (Pricing and Information Management).

[FR Doc. 2019-18194 Filed 8-22-19; 8:45 am]

BILLING CODE 6353-01-P